DEPARTMENT OF HEALTH AND HUMAN SERVICES

Administration for Children and Families

Submission for OMB Review; State Temporary Assistance for Needy Families Case Studies (New Collection)

AGENCY: Office of Planning, Research, and Evaluation; Administration for Children and Families; HHS.

ACTION: Request for public comment.

SUMMARY: The Office of Planning, Research, and Evaluation (OPRE) is proposing a data collection activity as part of the State Temporary Assistance for Needy Families (TANF) Case Studies project. This study seeks to document innovative employment and training programs for low-income individuals including TANF recipients and examine the ways the programs provide or link families to wraparound services. Over a three-year period, the study will conduct up to 12 comprehensive qualitative case studies and up to 20 profiles of innovative programs to showcase promising approaches.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV. Attn: Desk Officer for the Administration for Children and Families.

Copies of the proposed collection may be obtained by emailing OPREinfocollection@acf.hhs.gov. Alternatively, copies can also be obtained by writing to the Administration for Children and Families, Office of Planning, Research and Evaluation, 330 C Street SW, Washington, DC 20201, Attn: OPRE Reports Clearance Officer. All requests, emailed or written, should be identified by the title of the information collection.

SUPPLEMENTARY INFORMATION: Description: The State TANF Case Studies project will involve several phases including: (1) Identifying innovative programs through a scan of the field and engagement with stakeholders; (2) visiting up to 12 selected programs to collect detailed information and produce comprehensive case studies of these programs to enhance policymakers' and other stakeholders' understanding of promising programs helping low-income individuals to succeed in the labor force; and (3) gathering information through telephone interviews to produce up to 20 shorter case studies. The proposed information collection activities are: (1) Semi-structured interviews with program and partner administrators and frontline staff; (2) in-depth interviews with participants to better inform and enhance understanding of client experiences and perspectives; (3) a guided case review with frontline staff to capture information about client characteristics as well as intensity, frequency, duration, and sequencing of services; and (4) an observation of program services, such as case management sessions, intakes and referrals, services delivered in a classroom setting, and work sites. The study will take place over a three year period.

Respondents: Respondents include program administrators, frontline program staff, and program participants. Program administrators include staff who administer and supervise the case study program under review, TANF and employment and training programs; child care and other wraparound supports; and other workforce programs and partners such as community colleges, adult basic education providers, and employers; and state decision makers, as appropriate. Frontline program staff include intake workers, case managers, job developers, and other direct service providers who work at TANF agencies and American Job Centers, employment and training providers such as community colleges, and providers of wraparound supports, such as child care subsidy frontline staff. TANF and other low-income program participants will also be respondents. All participants will be able to opt out of participating in the data collection activities.

Annual Burden Estimates
Instrument | Total number of respondents | Annual number of respondents | Number of responses per respondent | Average burden hours per response | Annual burden hours
Semi-structured program staff interview guide | 200 | 67 | 1 | 1 | 67
In-depth participant interview guide | 24 | 8 | 1 | 1.5 | 12
Case review guide | 24 | 8 | 2 | .75 | 12

Estimated Total Annual Burden Hours: 91.

Authority: Sec. 413, Pub. L. 115-31.

Mary B. Jones,
ACF/OPRE Certifying Officer.

[FR Doc. 2019-15092 Filed 7-15-19; 8:45 am]

BILLING CODE 4184-09-P